ENVIRONMENTAL PROTECTION AGENCY

[FRL -7452-7]

Science Advisory Board; Advisory Council on Clean Air Compliance Analysis; Request for Nominations for Additional Expertise for the Special Council Panel for the Review of the Third 812 Analysis and the Council's Two Subcommittees, the Air Quality Modeling Subcommittee and the Health and Ecological Effects Subcommittee

1. Action: Notice; request for nominations to add additional expertise to the Advisory Council on Clean Air Compliance Analysis (Council) for a Special Council Panel for the Review of the Third 812 Analysis and request for nominations for membership on the Council's two subcommittees, the Air Quality Modeling Subcommittee and the Health and Ecological Effects Subcommittee (HEES). The Council is a separately chartered federal advisory committee, housed administratively in the U.S. Environmental Protection Agency Science Advisory Board.

2. Summary: The U.S. Environmental Protection Agency (EPA or Agency) Science Advisory Board is requesting nominations to: (a) add expertise to the Advisory Council on Clean Air Compliance Analysis (Council) for a Special Council Panel for the Review of the Third 812 Analysis (Special Council Panel); (b) the Council's Air Quality Modeling Subcommittee (AQMS); and (c) the Council's Health and Ecological Effects Subcommittee (HEES).

The SAB was established to provide independent scientific and technical advice, consultation, and recommendations to the EPA Administrator on the technical basis for Agency positions and regulations. The Council provides scientific advice on any analysis required under section 312 of the Clean Air Act (CAA) of the impacts of the Clean Air Act (CAA) on the public health, economy, and environment of the United States and is a separately chartered Federal advisory committee Federal Advisory Committee Act (FACA), as amended (5 U.S.C. App.). The AQMS of the Council provides expertise on air quality modeling used in such analysis. The HEES of the Council provides advice on assessments of health and ecological effects used in such analyses. The AQMS and the HEES will report to the Administrator of EPA through the Council. The Special Council Panel will comprise members of the Council, appointed by the Administrator, and additional experts needed for the Review of the Third 812 Analysis. Members of the Special Council Panel, AQMS, and HEES will provide advice to the Agency on the Third 812 Analysis over a two-year period. Over that period, the Special Council Panel for the Review of the Third 812 Analysis, AQMS, and HEES will comply with the provisions of FACA and all appropriate SAB procedural policies, including the SAB process for panel formation described in the Overview of the Panel Formation Process at the Environmental Protection Agency Science Advisory Board, which can found on the SAB's website at: http://www.epa.gov/sab/pdf/ec02010.pdf. Those selected to serve on the Council, AQMS, and HEES will review the draft materials identified in this notice and respond to the charge questions provided below.

3. Background: The Agency is seeking the Council's advice in developing the third in a series of statutorily mandated comprehensive analyses of the total costs and total benefits of programs implemented pursuant to the Clean Air Act. Section 812 of the Clean Air Act requires the EPA to periodically assess the effects of the 1990 Clean Air Act Amendments on the “public health, economy and the environment of the United States” and to report the findings and results of the assessments to Congress. Section 812 of the Clean Air Act Amendments of 1990 (42 U.S.C. § 7612) also specifically directed the EPA Administrator to establish the Council to: (a) Review data to be used for any analysis required under section 312 of the Clean Air Act (CAA) of the impacts of the Clean Air Act (CAA) on the public health, economy, and environment of the United States, and make recommendations on its use; (b) review the methodology used to analyze such data and make recommendations on the use of such methodology; and (c) prior to the issuance of a report to Congress required under section 312 of the CAA, review the findings of the report and make recommendations concerning the validity and utility of such findings.

EPA has to date completed two reports to Congress [The Benefits and Costs of the Clean Air Act: 1970 to 1990 (published, 1997, and on the EPA Web site at http://www.epa.gov/oar/sect812/copy.html) and The Benefits and Costs of the Clean Air Act, 1990 to 2010 (published 1999), and on the EPA Web site at http://www.epa.gov/air/sect812/1990-2010/fullrept.pdf] and received the advice of the Council on them in multiple reports. EPA also sought Council advice on a draft Analytical Plan (June 2001) for a third analysis, and received advice on the plan from the Council in September 2001, Review of the Draft Analytical Plan for EPA's Second Prospective Analysis—Benefits and Costs of the Clean Air Act 1990-2020 (EPA-SAB-COUNCIL-ADV-01-004, on the SAB Web site at http://www.epa.gov/science1/pdf/councila01004.pdf).

EPA's work pursuant to the draft Analytical Plan (June 2001) and receipt of SAB Council advice was suspended pending resolution of three key issues:

(a) National Academy of Sciences (NAS) review of EPA air pollution benefits methods. Shortly after completion of the September 2001 SAB Council review of the June 2001 Analytical Plan, a panel of the National Academy of Sciences initiated development of their statutorily-mandated report evaluating EPA's methods for conducting air pollution reduction benefits analysis. The Agency recognized that the pending NAS report would have substantial effects on the selection of methods and assumptions in the third analysis, and suspended initiation of analytical work until the NAS review was completed. The NAS report, Estimating the Public Health Benefits of Proposed Air Pollution Regulations (on the web at http://www.nap.edu/catalog/10511.html), was completed in October 2002.

The Agency notes that the NAS report recommends numerous changes to EPA methods that are relevant for the third 812 analysis. Of particular importance, the NAS recommends that EPA develop and apply significantly enhanced uncertainty analysis methods, including the use of probabilistic specifications for important but uncertain or highly variable factors. The NAS panel, however, did not provide extensive specific advice regarding the appropriate methods or assumptions to apply in air pollution benefits analyses. The Agency proposes to seek Council advice to evaluate proposals for methodological changes pursuant to SAB and NAS advice. One specific change will be an additional analysis recommended by the NAS. This analysis, referred to as the “Fixed Current Conditions Analysis,” is intended to gauge baseline aggregate uncertainty embedded in the benefits modeling system.

(b) Base emissions inventory selection. The Agency decided to wait for the availability of the upcoming 1999 National Emissions Inventory (NEI) rather than the currently available 1996 National Emissions Inventory because of shortcomings in the current emission inventories, including several deficiencies identified by the SAB Council. The 1999 NEI has now been further delayed, and is not expected to be available for use in the third analysis until Summer 2003.

The Agency therefore proposes to use the time between now and Summer 2003, when the 1999 NEI will be available, to configure and begin implementing key supplemental analyses, included in the original Analytical plan. These supplemental analyses include: (i) A Title VI re-analysis; (ii) a Hazardous Air Pollutant Case Study; and (iii) an Ecological Service Flow Case Study. Specific proposals for design and implementation of these supplemental analyses would be incorporated in the revised Analytical Plan and submitted for review by the SAB Council.

(c) Air quality model selection. The SAB Council strongly encouraged use of a comprehensive and integrated modeling system, such as the Community Multiscale Air Quality (CMAQ) model currently under development. The Agency also decided to defer initiation of emissions inventory development until air quality model evaluations for the key competing models [especially CMAQ versus the Regulatory Modeling System for Aerosols and Deposition (REMSAD) for modeling of particulate matter and CMAQ versus the Comprehensive Air Quality Model with Extensions (CAMx) for ozone modeling) were completed to ensure appropriate specification of the emission inventories used as inputs to the air quality models that will be selected for the study.

The Agency is seeking review by the Council Special Panel and its two subcommittees of three documents in the Spring 2003 that will assist the Agency in developing the third 812 analysis, which will be reviewed by the Council Special Panel and its two subcommittees in draft and final form in Fiscal Year 2004. The three documents to be reviewed in the Spring of 2003 include: (a) A revised Analytical Plan; (b) a new EPA meta-analysis for the Value of a Statistical Life (VSL), which has been developed in response, in part, to SAB Council advice for an updated and refined VSL estimate for use in third analysis; and (c) a draft strategic plan for development and implementation of probabilistic uncertainty methods to be applied more generally in EPA benefit-cost analyses. This strategic plan is expected to include proposed processes for (i) probability-based uncertainty analysis and (ii) expert elicitation to configure probability distributions for key uncertain and/or variable factors where data are limited and/or function specification would likely be controversial.

4. EPA Request for and Proposed Charge to the Council, HEES, and AQMS. Specific and detailed charge questions are still under development, particularly since EPA is still developing methodological options for implementation of NAS advice, especially related to probabilistic uncertainty analysis. However, the particular analytical elements for which new or updated SAB Council advice is expected to be sought include the following:

(a) Selection of upcoming 1999 National Emissions Inventory

(b) Selection of REMSAD version 7.3 for PM and CAMx for ozone air quality modeling

(c) Selection of specific Computable General Equilibrium model for estimation of general equilibrium effects (proposed model choice still pending)

(d) Selection of exposure modeling methodology

(e) Methods for quantification of compliance cost uncertainty

(f) Methods for quantification of emission inventory uncertainty

(g) Refinements to population characteristics for health effect estimation, including:

(i) Updated baseline incidence and prevalence rates for morbidity and mortality

(ii) Adjustments to account for differences in study and applied populations

(iii) Accounting for population exposure variability

(iv) Population subgroup differentiation in estimating incidence changes

(v) Development of regional-scale population projections based on Woods and Poole Economics, Incorporated, 2001 projections

(h) Updated and expanded morbidity endpoint treatments, including:

(i) Revised asthma severity baseline using new National Health Interview Survey data

(ii) Expansion of asthma age range

(iii) Emergency room visits in children age 0 to 18

(iv) Non-fatal heart attacks in adults over 30

(v) Hospital admissions for all cardiovascular causes

(vi) Hospital admissions for all respiratory causes in children under age 2

(vii) Revisions to hospital admissions studies used to estimate changes in pneumonia, chronic obstructive pulmonary disease, and total cardiovascular

(viii) Asthma hospital admissions in children age 6 to 13

(ix) Ozone-related school loss days

(x) Additional calculations to extrapolate study population age ranges for application to all child age range for various concentration-response functions

(xi) Possible expert elicitation regarding methods to transfer non-U.S. data on doctor visits and medication usage

(xii) Possible expert elicitation regarding revision to the current triangular distribution for the chronic bronchitis severity adjustment factor

(i) Updated treatments for particulate matter mortality, including:

(i) A proposed probability-based structure for cessation lags

(ii) Alternative mortality concentration-response functions (including possible expert elicitation regarding appropriate weights for alternative particulate matter cohort studies for the purpose of pooling)

(iii) Alternative PM mortality threshold models (including possible expert elicitation regarding choice and refitting of alternative threshold concentration-response curves)

(iv) Alternative particulate matter causality assumptions

(v) Relative toxicity of particulate matter components

(j) Updated and new valuation coefficients (or coefficient distributions) for the full range of morbidity and for mortality endpoints, including:

(i) Development of methods to estimate Quality Adjusted Life Year values for air pollution-related outcomes

(ii) Review of EPA's pending meta-analysis for Value of a Statistical Life

(iii) Review of the welfare economics components of EPA's analyses including not only efficiency considerations, but distributional consequences of alternative scenarios

(k) Expanded uncertainty analysis, including:

(i) Development of preliminary covariance matrices followed by possible expert elicitation for assessment and refinement

(ii) Development of probability distributions for key uncertain and/or variable factors (in many cases, incorporating subjective judgments through various methods such as Bayesian approaches or expert elicitation)

(iii) Configuration of sensitivity tests to evaluate alternative distributions for key factors

(iv) Configuration of the side bar “Fixed Current Conditions Analysis” represented in the EPA benefit-cost modeling system

(v) Configuration of multi-factor sensitivity tests to evaluate the relative significance and interaction effects of key uncertain or variable factors

5. SAB Request for Nominations: The EPA SAB is requesting nominations of individuals who are recognized, national-level experts in one or more of the following disciplines necessary to contribute to the charge questions to be addressed by the Special Council Panel for the Review of the Third 812 Analysis, AQMS, or HEES:

(a) Emissions estimation (AQMS and the Special Council Panel)

(b) Air quality modeling (AQMS and the Special Council Panel)

(c) Exposure modeling related to air pollution (AQMS, HEES)

(d) Health effects (HEES and the Special Council Panel))

(e) Human clinical studies related to air pollution (HEES and the Special Council Panel)

(f) Air pollution epidemiology (HEES and the Special Council Panel)

(g) Ecosystem effects related to air pollution (HEES and the Special Council Panel)

(h) Uncertainty analysis and statistical and/or subjective probability (AQMS, HEES, and the Special Council Panel)

(i) Decision theory (Special Council Panel)

(j) Representation of expert judgment including expert elicitation (HEES and the Special Council Panel)

(k) Estimation of the value of morbidity and premature mortality risk reduction (Special Council Panel)

(l) Estimation of the value of ecosystem effects (Special Council Panel)

(m) Welfare economics (Special Council Panel).

6. Process and Deadline for Submitting Nominations: Any interested person or organization may nominate qualified individuals to add expertise in the above areas for the Special Council Panel for the Review of the Third 812 Analysis, AQMS, or HEES. Nominations should be submitted in electronic format through the Form for Nominating Individuals to Panels of the EPA Science Advisory Board provided on the SAB website. The form can be accessed through a link on the blue navigational bar on the SAB Web site, http://www.epa.gov/sab. To be considered, all nominations must include the information required on that form.

Anyone who is unable to submit nominations in electronic format may contact Dr. Angela Nugent at the mailing address given at the end of this notice. Nominations should be submitted in time to arrive no later than 21 days after the publication date of this Federal Register Notice. Any questions concerning either this process or any other aspects notice should be directed to Dr. Nugent.

The EPA Science Advisory Board will acknowledge receipt of the nomination and inform nominators of the panel selected. From the nominees identified by respondents to this Federal Register Notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for the specific expertise to add to the Council for the Special Council Panel, for the AQMS, or the HEES.

For the EPA SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form, which is submitted by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf. Subcommittee members will likely be asked to attend at least one public face-to-face meeting and several public conference call meetings over the anticipated course of the advisory activity.

The approved policy under which the EPA SAB selects review panels is described in a recent SAB document, EPA Science Advisory Board (SAB) Panel Formation Process: Immediate Steps to Improve Policies and Procedures—An SAB Commentary (EPA-SAB-EC-COM-002-003), which can be found on the SAB's Web site at: http://www.epa.gov/sab/pdf/ecm02003.pdf.

Additional information concerning the EPA Science Advisory Board, including its structure, function, and composition, may be found on the EPA SAB Web site at: http://www.epa.gov/sab; and in the EPA Science Advisory Board FY2001 Annual Staff Report, which is available from the EPA SAB Publications Staff at phone: (202) 564-4533; via fax at: (202) 501-0256; or on the SAB Web site at: http://www.epa.gov/sab/annreport01.pdf.

7. For Further Information—Any member of the public wishing further information regarding this Request for Nomination may contact Dr. Angela Nugent, Designated Federal Officer, U.S. EPA Science Advisory Board (1400A), Suite 6450C by telephone/voice mail at (202) 564-4562, by fax at (202) 501-0323; or via e-mail at nugent.angela@epa.gov.

Dated: February 10, 2003.
Vanessa T. Vu,
Director, EPA Science Advisory Board Staff Office.

[FR Doc. 03-3703 Filed 2-13-03; 8:45 am]

BILLING CODE 6560-50-P